DEPARTMENT OF ENERGY

Office of Energy Efficiency and Renewable Energy

Energy Conservation Program for Consumer Products: Granting of the Application for Interim Waiver and Publishing of the Petition for Waiver of Fisher & Paykel Appliances Limited From the DOE Clothes Washer Test Procedure

AGENCY: Office of Energy Efficiency and Renewable Energy, Department of Energy.

ACTION: Notice of petition for waiver and solicitation of comments.

SUMMARY: Today's notice grants an Interim Waiver to Fisher & Paykel Appliances Limited (Fisher & Paykel), publishes Fisher & Paykel's Petition for Waiver from the existing Department of Energy (DOE or Department) clothes washer test procedure for its IW model clothes washer which has an adaptive control system, and seeks comment on that Petition for Waiver. The DOE clothes washer test procedure requires manufacturers of non-conventional clothes washers with adaptive control systems other than adaptive water fill control systems to seek such a waiver.

Fisher & Paykel seeks a waiver because its clothes washer model IW has an adaptive control system with two sensing modes, water level sensing and fabric sensing, to assess the type of load in the washer. This model does not have the conventional “normal” cycle used by the DOE clothes washer test procedure set forth in 10 CFR part 430, subpart B, appendix J, or the energy test cycle for washing cotton or linen clothes used in Appendix J1. Instead, Fisher & Paykel seeks to test the washer by determining a cycle that is equivalent to the normal cycle and the energy test cycle. The company proposes to test the default cycle that begins when a user pushes the power button to start the washer. This default cycle is the midpoint of the five settings controlled by the washer's “How Dirty” button, setting three. This waiver seeks only to confirm which test cycle to use. Fisher & Paykel will then follow the remaining steps of the existing test procedure to determine the energy consumption of the clothes washer. The Department is soliciting comments, data, and information regarding the Petition for Waiver.

DATES: The Department will accept comments, data, and information regarding this Petition for Waiver not later than December 8, 2003.

ADDRESSES: Please submit comments, data, and information electronically if possible. Comments should be sent to the following Internet address: clotheswasherwaiver@ee.doe.gov. Electronic comments must be submitted in a WordPerfect, Microsoft Word, or PDF format, and avoid the use of special characters or any form of encryption. Comments in electronic format should be identified by the case number CW-012, and wherever possible carry the electronic signature of the author. Absent an electronic signature, comments submitted electronically must be followed and authenticated by submitting the signed original paper document. No telefacsimiles (telefaxes) will be accepted.

Written (paper) comments may be submitted to: Ms. Brenda Edwards-Jones, U.S. Department of Energy, Office of Energy Efficiency and Renewable Energy, Building Technologies Program, EE-2J, Case Number CW-012, 1000 Independence Avenue, SW., Washington, DC 20585-0121, (202) 586-2945. Please submit one signed copy—no telefacsimiles.

You may read copies of the public comments received in the resource room of the appliance office of the Building Technologies Program, room 1J-018 of the Forrestal Building at the U.S. Department of Energy, 1000 Independence Avenue, SW., Washington, DC, between the hours of 9 a.m. and 4 p.m., Monday through Friday, except Federal holidays. Please call Ms. Brenda Edwards-Jones at the above telephone number for additional information regarding visiting the resource room.

FOR FURTHER INFORMATION CONTACT: Barbara Twigg, U.S. Department of Energy, Office of Energy Efficiency and Renewable Energy, EE-2J, 1000 Independence Avenue, SW., Washington, DC 20585-0121, (202) 586-8714, e-mail: barbara.twigg@ee.doe.gov; or Francine Pinto, Esq., U.S. Department of Energy, Office of General Counsel, GC-72, 1000 Independence Avenue, SW., Washington, DC 20585, (202) 586-7432, e-mail: Francine.Pinto@hq.doe.gov.

SUPPLEMENTARY INFORMATION: Title III of the Energy Policy and Conservation Act (EPCA) sets forth a variety of provisions designed to improve energy efficiency. Part B of title III (42 U.S.C. 6291-6309) provides for the Energy Conservation Program for Consumer Products Other Than Automobiles. Among its provisions, it requires DOE to prescribe standardized test procedures to measure the energy consumption of certain consumer products, including clothes washers. The intent of the test procedures is to provide a comparable measure of energy consumption that will assist consumers in making purchasing decisions. The test procedures for clothes washers are set forth in 10 CFR part 430, subpart B, appendix J and J1.

The Department's regulations in 10 CFR 430.27, set forth a process by which an interested person may seek a waiver and an interim waiver from the test procedure requirements for a covered consumer product. The waiver process allows the Assistant Secretary for Conservation and Renewable Energy (now known as the Assistant Secretary for Energy Efficiency and Renewable Energy) to waive temporarily test procedures for a particular basic model when a petitioner shows that the basic model contains one or more design characteristics which prevent testing according to the prescribed test procedures, or when the prescribed test procedures may evaluate the basic model in a manner so unrepresentative of its true energy consumption as to provide materially inaccurate comparative data. Waivers generally remain in effect until a revised test procedure becomes effective, thereby resolving the problem that is the subject of the waiver.

An Interim Waiver will be granted by the Assistant Secretary for Energy Efficiency and Renewable Energy if it is determined that the applicant will experience economic hardship if the Application for Interim Waiver is denied, if it appears likely that the Petition for Waiver will be granted, and/or the Assistant Secretary determines that it would be desirable for public policy reasons to grant immediate relief pending a determination on the Petition for Waiver. 10 CFR 430.27 (g). An Interim Waiver remains in effect for a period of 180 days from the date of issuance or until DOE issues its determination on the Petition for Waiver, whichever is sooner, and may be extended for an additional 180 days, if necessary. 10 CFR 430.27(h).

In addition to the waiver process outlined in 10 CFR 430.27, the clothes washer test procedure published August 27, 1997, specifically requires manufacturers of clothes washers with an adaptive control system, other than an adaptive water fill control system, to obtain a waiver to establish an acceptable test procedure for each such clothes washer. 62 FR 45501, 45514. Neither Appendix J (in effect through December 31, 2003) nor Appendix J1 (effective January 1, 2004) of that test procedure provides a means for determining the energy consumption of a clothes washer with an adaptive control system.

On March 26, 2003, Fisher & Paykel filed an Application for Interim Waiver and a Petition for Waiver regarding its clothes washer model IW which has an adaptive control system that affects more than the water fill and cannot be tested accurately using the existing test procedure. Instead of having a means to select a “normal” cycle for testing (per Appendix J) or an energy test cycle for washing cottons and linens for testing (per Appendix J1), the machine features two sensing modes, water level sensing and fabric sensing, to determine the wash action. Both sensing modes employ specific agitator strokes and then assess the load's response to those agitator strokes. When a customer pushes the start button, the IW washer will, like many washers, go through an automatic sensing process to determine the water level. However, it will also sense the fabric type of the load and assign an agitator profile for that cycle. With additional input from the “How Dirty” setting, the washer will automatically select the appropriate wash action. Although users can adjust the “How Dirty” setting according to their assessment of the dirtiness of the load of clothes, if no choice is made, the power/start button will automatically select the midpoint of the “How Dirty” response as the default setting. This midpoint, setting three out of five possible settings, instructs the washer to wash on a medium soil level, the soil level suggested in the Fisher & Paykel user guide for washing a normal wash load with the IW model. Fisher & Paykel proposes to test the IW clothes washer on this midpoint, default setting activated by the power/start button, believing that it is the closest equivalent to a “normal” cycle. After the initiation of the default cycle, Fisher & Paykel will conduct the remainder of the energy consumption test according to the established test procedure.

Fisher & Paykel states that the “How Dirty” setting only affects the energy consumed by the motor, a small proportion of the total energy consumed by the wash cycle. The company provided test data to show the energy used per cycle by the five “How Dirty” settings, ranging from 0.086 kWhr/cycle to 0.121 kWhr/cycle. Since the variation in energy consumption among the five “How Dirty” settings will be insignificant compared to the total energy consumption of the clothes washer, the selection of the default cycle at the midpoint setting would seem to provide a fair equivalent of the traditional “normal” cycle for testing.

On August 4, 2003, Fisher & Paykel certified to the Department that it had circulated copies of its Application for Interim Waiver and Petition for Waiver to all known clothes washer manufacturers for comment. On September 15, 2003, the Department received copies of questions submitted by members of the Association of Home Appliance Manufacturers (AHAM) to Fisher & Paykel, in response to the circulated waiver, along with minutes from a conference call held on August 21, 2003, between AHAM Home Laundry Specialists and Fisher & Paykel, to discuss the waiver. The AHAM members requested clarifications on two points: (1) Confirmation that the #3 “How Dirty” setting met the 70 percent minimum run time requirement for the test procedure, and (2) Fisher & Paykel's intent regarding the selection of both maximum and minimum spin cycles. Subsequent to this discussion, Fisher & Paykel made changes to the waiver to clarify these issues. It added a table to show the wash times for each “How Dirty” setting and language to make clear that both the maximum and minimum spin speeds would be included in the test. Fisher & Paykel resubmitted its waiver to the Department with the revisions requested by the AHAM clothes washer manufacturers on August 31, 2003. On September 15, 2003, AHAM reported to the Department that the changes made to the waiver by Fisher & Paykel were acceptable to its members. DOE received no additional comments.

Based on the above, the Department agrees that the Fisher & Paykel IW clothes washer, using an adaptive control system without a “normal” cycle, has a design characteristic which prevents the company from testing that model according to the prescribed test procedures. Because Fisher & Paykel has suggested a reasonable method for selecting an equivalent cycle for testing and will conduct the remainder of the test procedure according to the established DOE test procedure, the Department believes that it is likely that this Petition for Waiver will be granted. To deny Fisher & Paykel the ability to test and market an adaptive control clothes washer in the United States would discourage innovation, deny consumers new options in clothes washer features, and create economic hardship for the company.

The Department is therefore granting Fisher & Paykel the Interim Waiver it has requested for its IW clothes washer. Fisher & Paykel shall be permitted to test its adaptive control clothes washer using the default cycle which begins when a consumer presses the power/start button and does not manually select an alternative “How Dirty” setting.

This Interim Waiver is based upon the presumed validity of statements and all allegations submitted by the company. This Interim Waiver may be removed or modified at any time upon a determination that the factual basis underlying the Application is incorrect.

This Interim Waiver shall remain in effect for a period of 180 days after issuance or until DOE acts on the Petition for Waiver, whichever is sooner, and may be extended for an additional 180-day period, if necessary. Pursuant to 10 CFR 430.27(b), DOE is hereby publishing the “Petition for Waiver” in its entirety. The Petition contains no confidential information. The Department solicits comments, data, and information respecting the Petition. Any person submitting written comments to DOE concerning either the Petition for Waiver or Interim Waiver must also send a copy of such comments to the petitioner. 10 CFR 430.27(b)(1)(iv) and 430.27(d).

Issued in Washington, DC, on October 30, 2003.
David K. Garman,
Assistant Secretary, Energy Efficiency and Renewable Energy.

BILLING CODE 6450-01-P

[FR Doc. 03-28096 Filed 11-6-03; 8:45 am]

BILLING CODE 6450-01-C